DEPARTMENT OF THE INTERIOR

[FWS-R4-ES-2021-N209; FVHC98220410150-XXX-FF04H00000]

Mississippi Trustee Implementation Group Deepwater Horizon Oil Spill Draft Restoration Plan 3 and Environmental Assessment: Habitat Projects on Federally Managed Lands; Sea Turtles; Marine Mammals; Birds; and Provide and Enhance Recreational Opportunities

AGENCY: Department of the Interior.

ACTION: Notice of availability; request for public comments.

SUMMARY: In accordance with the Oil Pollution Act of 1990, the National Environmental Policy Act of 1969, the Final Programmatic Damage Assessment Restoration Plan and Final Programmatic Environmental Impact Statement (Final PDARP/PEIS) and Record of Decision, and the Consent Decree, the Federal and State natural resource trustee agencies for the Mississippi Trustee Implementation Group (MS TIG) have prepared the Mississippi Trustee Implementation Group Draft Restoration Plan 3 and Environmental Assessment: Habitat Projects on Federally Managed Lands; Sea Turtles; Marine Mammals; Birds; and Provide and Enhance Recreational Opportunities (Draft RP3/EA). In the Draft RP3/EA, the MS TIG proposes projects to partially restore injured habitats, sea turtles, marine mammals, birds, and to compensate for lost recreational use in the Mississippi Restoration Area as a result of the Deepwater Horizon oil spill. The approximate cost to implement the MS TIG's proposed action (seven preferred alternatives) is $19,000,000. We invite public comments on the Draft RP3/EA.

DATES: We will consider public comments on the Draft RP3/EA received on or before 45 days after the date of publication in the Federal Register.

The MS TIG will host a public webinar on Tuesday, January 11, 2022, at 2 p.m. Central Time. The public webinar will include a presentation of the Draft RP3/EA. The public may register for the webinar at https://attendee.gotowebinar.com/register/6376489461251797774. After registering, participants will receive a confirmation email with instructions for joining the webinar. Instructions for commenting will be provided during the webinar. Shortly after the webinar is concluded, the presentation material will be posted on the web at https://www.gulfspillrestoration.noaa.gov/restoration-areas/mississippi.

ADDRESSES: Obtaining Documents: You may download the Draft RP3/EA from either of the following websites:

• https://www.doi.gov/deepwaterhorizon

• https://www.gulfspillrestoration.noaa.gov/restoration-areas/mississippi

Alternatively, you may request a CD of the Draft RP3/EA (see FOR FURTHER INFORMATION CONTACT).

Submitting Comments: You may submit comments by one of the following methods:

• Via the Web: http://www.gulfspillrestoration.noaa.gov/restoration-areas/mississippi.

• Via U.S. Mail: U.S. Fish and Wildlife Service, P.O. Box 29649, Atlanta, GA 30345. To be considered, mailed comments must be postmarked on or before the comment deadline given in DATES.

• During the Public Webinar: Written comments may be provided by the public during the webinar. Webinar information is provided in DATES.

FOR FURTHER INFORMATION CONTACT: Nanciann Regalado, at nanciann_regalado@fws.gov or 678-296-6805, or via the Federal Relay Service at 800-877-8339.

SUPPLEMENTARY INFORMATION:

Introduction

On April 20, 2010, the mobile offshore drilling unit Deepwater Horizon (DWH), which was being used to drill a well for BP Exploration and Production, Inc. (BP), in the Macondo prospect (Mississippi Canyon 252-MC252), experienced a significant explosion, fire, and subsequent sinking in the Gulf of Mexico, resulting in an unprecedented volume of oil and other discharges from the rig and from the wellhead on the seabed. The DWH oil spill is the largest offshore oil spill in U.S. history, discharging millions of barrels of oil over a period of 87 days. In addition, well over 1 million gallons of dispersants were applied to the waters of the spill area in an attempt to disperse the spilled oil. An undetermined amount of natural gas was also released into the environment as a result of the spill.

The Trustees conducted the natural resource damage assessment (NRDA) for the DWH oil spill under the Oil Pollution Act 1990 (OPA; 33 U.S.C. 2701 et seq.). Pursuant to OPA, Federal and State agencies act as trustees on behalf of the public to assess natural resource injuries and losses and to determine the actions required to compensate the public for those injuries and losses. The OPA further instructs the designated trustees to develop and implement a plan for the restoration, rehabilitation, replacement, or acquisition of the equivalent of the injured natural resources under their trusteeship to baseline (the resource quality and conditions that would exist if the spill had not occurred). This includes the loss of use and services provided by those resources from the time of injury until the completion of restoration.

The DWH Trustees are:

• U.S. Department of the Interior (DOI), as represented by the National Park Service, U.S. Fish and Wildlife Service, and Bureau of Land Management;

• National Oceanic and Atmospheric Administration (NOAA), on behalf of the U.S. Department of Commerce;

• U.S. Department of Agriculture (USDA);

• U.S. Environmental Protection Agency (EPA);

• State of Louisiana Coastal Protection and Restoration Authority, Oil Spill Coordinator's Office, Department of Environmental Quality, Department of Wildlife and Fisheries, and Department of Natural Resources;

• State of Mississippi Department of Environmental Quality;

• State of Alabama Department of Conservation and Natural Resources and Geological Survey of Alabama;

• State of Florida Department of Environmental Protection and Fish and Wildlife Conservation Commission; and

• State of Texas: Texas Parks and Wildlife Department, Texas General Land Office, and Texas Commission on Environmental Quality.

On April 4, 2016, the United States District Court for the Eastern District of Louisiana entered a Consent Decree resolving civil claims by the Trustees against BP arising from the DWH oil spill: United States v. BPXP et al., Civ. No. 10-4536, centralized in MDL 2179, In re: Oil Spill by the Oil Rig “Deepwater Horizon” in the Gulf of Mexico, on April 20, 2010 (E.D. La.) (http://www.justice.gov/enrd/deepwater-horizon). Pursuant to the Consent Decree, restoration projects in the Mississippi Restoration Area are chosen and managed by the MS TIG. The MS TIG is composed of the following Trustees: State of Mississippi Department of Environmental Quality; DOI; NOAA; EPA; and USDA.

Background

On October 30, 2020, the MS TIG posted a public notice at http://www.gulfspillrestoration.noaa.gov requesting new or revised natural resource restoration project ideas by November 30, 2020, for the Mississippi Restoration Area. The notice stated that the MS TIG was seeking project ideas for the following restoration types: (1) Habitat Projects on Federally Managed Lands; (2) Sea Turtles; (3) Marine Mammals; (4) Birds; and (5) Provide and Enhance Recreational Opportunities. On June 11, 2021, the MS TIG announced that it had initiated drafting of the RP3/EA and that it would include a reasonable range of restoration alternatives (projects) for the five restoration types.

Overview of the MS TIG Draft RP3/EA

The Draft RP3/EA provides the MS TIG's analysis of the reasonable range of alternatives. The MS TIG's seven preferred alternatives are presented in the following table under the restoration type from which funds would be allocated in accordance with the DWH Consent Decree. The MS TIG also evaluated five non-preferred alternatives as part of the reasonable range, and a No Action alternative for each restoration type in the plan.

Restoration Type: Habitat Projects on Federally Managed Lands

Improve Native Habitats by Removing Marine Debris from Mississippi Barrier Islands

Restoration Type: Sea Turtles

Maintaining Enhanced Sea Turtle Stranding Network Capacity and Diagnostic Capabilities

Restoration Type: Marine Mammals

Maintaining Enhanced Marine Mammal Stranding Network Capacity and Diagnostic Capabilities

Reduction of Marine Mammal Fishery Interactions through Trawl Technique and Component Material Improvements

Restoration Type: Birds

Bird Stewardship and Enhanced Monitoring in Mississippi

Restoration Type: Provide and Enhance Recreational Opportunities

Clower Thornton Nature Park Trail Improvement

Environmental Education and Stewardship at Walter Anderson Museum of Art

Next Steps

As described above in DATES, the MS TIG will host a public webinar to facilitate the public review and comment process. After the public comment period ends, the MS TIG will consider and address the comments received before issuing a final RP3/EA. Public comments and MS TIG responses will be included in the final RP3/EA.

Public Availability of Comments

Before including your address, phone number, email address, or other personal identifying information in your comment, you should be aware that your entire comment—including your personal identifying information—may be made publicly available at any time. While you can ask us in your comment to withhold your personal identifying information from public review, we cannot guarantee that we will be able to do so.

Administrative Record

The documents comprising the Administrative Record for the Draft RP3/EA can be viewed electronically at https://www.doi.gov/deepwaterhorizon/adminrecord.

Authority

The authority for this action is the Oil Pollution Act of 1990 (33 U.S.C. 2701 et seq.), its implementing NRDA regulations found at 15 CFR part 990, and the National Environmental Policy Act of 1969 (42 U.S.C. 4321 et seq.) and its implementing regulations found at 40 CFR 1500-1508.

Mary Josie Blanchard,
Director, Gulf of Mexico Restoration, Department of the Interior.

[FR Doc. 2021-26415 Filed 12-6-21; 8:45 am]

BILLING CODE 4333-15-P